INTERNATIONAL TRADE COMMISSION

[Investigation No. 337-TA-846]

Certain CMOS Image Sensors and Products Containing Same; Investigations: Terminations, Modifications and Rulings

AGENCY: U.S. International Trade Commission.

ACTION: Notice.

SUMMARY: Notice is hereby given that the U.S. International Trade Commission has determined not to review an initial determination (“ID”) (Order No. 9) granting unopposed motions to terminate the above-captioned investigation based on a settlement agreement. The investigation is terminated.

FOR FURTHER INFORMATION CONTACT: Clark S. Cheney, Office of the General Counsel, U.S. International Trade Commission, 500 E Street SW., Washington, DC 20436, telephone 202-205-2661. Copies of non-confidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on June 6, 2012, based on a complaint filed by California Institute of Technology of Pasadena, California (“CalTech”). 77 FR 33488 (June 6, 2012). The complaint alleged violations of section 337 of the Tariff Act of 1930, as amended (19 U.S.C. 1337), in the importation into the United States, the sale for importation, and the sale within the United States after importation of certain CMOS image sensors and products containing the same based on infringement of three United States patents. The notice of investigation named as respondents STMicroelectronics of Geneva, Switzerland, and STMicroelectronics Inc., of Coppell, Texas (collectively, “STMicro”); Nokia Corp., of Espoo, Finland, and Nokia, Inc., of White Plains, New York (collectively, “Nokia”); and Research In Motion Ltd., of Ontario, Canada, and Research In Motion Corp., of Irving, Texas (collectively, “RIM”)..

On October 16, 2012, CalTech and STMicro jointly moved to terminate the investigation based upon a settlement agreement between CalTech and STMicro. On October 26, 2012, RIM and Nokia filed a separate joint motion to terminate the investigation based on the same settlement agreement between CalTech and STMicro. Neither motion was opposed.

On November 8, 2012, the ALJ issued the subject ID (Order No. 9) granting both motions to terminate the investigation. The ALJ found no indication that termination of the investigation based on the settlement agreement would have an adverse impact on the public interest. No petitions for review of the ID were filed.

The Commission has determined not to review the ID. The investigation is terminated.

The authority for the Commission's determination is contained in section 337 of the Tariff Act of 1930, as amended (19 U.S.C. 1337), and in Part 210 of the Commission's Rules of Practice and Procedure (19 CFR part 210).

Issued: December 10, 2012.
By order of the Commission.
Lisa R. Barton,
Acting Secretary to the Commission.

[FR Doc. 2012-30161 Filed 12-13-12; 8:45 am]

BILLING CODE 7020-02-P